SMALL BUSINESS ADMINISTRATION

[Disaster Declaration # 10852 and # 10853]

New York Disaster Number NY-00045

AGENCY: U.S. Small Business Administration.

ACTION: Amendment 1.

SUMMARY: This is an amendment of the Presidential declaration of a major disaster for the State of New York (FEMA-1692-DR), dated 4/24/2007.

Incident: Severe Storms and Inland and Coastal Flooding.

Incident Period: 4/14/2007 through 4/18/2007.

Effective Date: 5/3/2007.

Physical Loan Application Deadline Date: 6/25/2007.

EIDL Loan Application Deadline Date: 1/24/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of New York, dated 4/24/2007 is hereby amended to include the following areas as adversely affected by the disaster:

Primary Counties:

Albany, Dutchess, Richmond.

Contiguous Counties:

New York: Columbia, Greene, Rensselaer, Saratoga, Schenectady, Schoharie.

Connecticut: Litchfield.

Massachusetts: Berkshire.

All other information in the original declaration remains unchanged.

(Catalog of Federal Domestic Assistance Numbers 59002 and 59008)

James E. Rivera,
Acting Associate Administrator for Disaster Assistance.

[FR Doc. E7-9161 Filed 5-11-07; 8:45 am]

BILLING CODE 8025-01-P